DEPARTMENT OF HOMELAND SECURITY

Federal Emergency Management Agency

[Docket ID FEMA-2007-0008]

National Advisory Council; Meeting

AGENCY: Federal Emergency Management Agency, DHS.

ACTION: Committee management; notice of open Federal Advisory Committee meeting.

SUMMARY: The Federal Emergency Management Agency (FEMA) National Advisory Council (NAC) will meet in person and remotely via teleconference on Friday, February 23, 2018, in Washington, DC. The meeting will be open to the public.

DATES: The NAC will meet Friday, February 23, 2018, from 1:00 p.m. to 3:00 p.m. Eastern Time (ET). Please note that the meeting may close early if the NAC has completed its business.

ADDRESSES: The meeting will be held at the Federal Emergency Management Agency, 400 C St SW, Washington, DC 20472 in Conference Room A on the ground floor. It is recommended that attendees register with FEMA prior to the meeting by providing their name, telephone number, email address, title, and organization to the person listed in FOR FURTHER INFORMATION CONTACT below by February 16, 2018.

For information on facilities or services for people with disabilities and others with access and functional needs, or to request assistance at the meeting, contact the person listed in FOR FURTHER INFORMATION CONTACT below as soon as possible.

To facilitate public participation, members of the public are invited to provide written comments on the issues to be considered by the NAC. The “Agenda” section below outlines these issues. The full agenda and any related documents for this meeting will be posted by Friday, February 16, 2018, on the NAC website at http://www.fema.gov/national-advisory-council. Written comments must be submitted and received by 5:00 p.m. ET on February 16, 2018, identified by Docket ID FEMA-2007-0008, and submitted by one of the following methods:

• Federal eRulemaking Portal: http://www.regulations.gov. Follow the instructions for submitting comments.

• Email: FEMA-RULES@fema.dhs.gov. Include the docket number in the subject line of the message.

• Fax: (540) 504-2331. Please include a cover sheet addressing the fax to ATTN: Deana Platt.

• Mail: Regulatory Affairs Division, Office of Chief Counsel, FEMA, 500 C Street SW, Room 8NE, Washington, DC 20472-3100.

Instructions: All submissions must include the words “Federal Emergency Management Agency” and the docket number for this action. Comments received, including any personal information provided, will be posted without alteration at http://www.regulations.gov.

Docket: For access to the docket to read comments received by the NAC, go to http://www.regulations.gov, and search for Docket ID FEMA-2007-0008.

A public comment period will be held on Friday, February 23, 2018, from 1:20 p.m. to 1:30 p.m. ET. All speakers must limit their comments to 5 minutes. Comments should be addressed to the NAC. Any comments not related to the agenda topics will not be considered by the NAC. To register to make remarks during the public comment period, contact the individual listed in FOR FURTHER INFORMATION CONTACT by February 16, 2018. Please note that the public comment period may end before the time indicated, following the last call for comments.

FOR FURTHER INFORMATION CONTACT: Deana Platt, Designated Federal Officer, Office of the National Advisory Council, Federal Emergency Management Agency, 500 C Street SW, Washington, DC 20472-3184, telephone (202) 646-2700, fax (540) 504-2331, and email FEMA-NAC@fema.dhs.gov. The NAC website is: http://www.fema.gov/national-advisory-council.

SUPPLEMENTARY INFORMATION: Notice of this meeting is given under the Federal Advisory Committee Act, 5 U.S.C. Appendix.

The NAC advises the FEMA Administrator on all aspects of emergency management. The NAC incorporates state, local, and tribal government, and private sector input in the development and revision of FEMA plans and strategies. The NAC includes a cross-section of officials, emergency managers, and emergency response providers from state, local, and tribal governments, the private sector, and nongovernmental organizations.

Agenda: On Friday, February 23, 2018, the NAC will consider RESPONSE Act Subcommittee recommendations made at the previous meeting in November 2017. Members of the NAC may also make and vote on other recommendations to the full group based on the Administrator's guidance given during the November 2017 meeting.

The full agenda and any related documents for this meeting will be posted by Friday, February 16, 2018, on the NAC website at http://www.fema.gov/national-advisory-council.

Dated: January 30, 2018.
William B. “Brock” Long,
Administrator, Federal Emergency Management Agency.

[FR Doc. 2018-02378 Filed 2-6-18; 8:45 am]

BILLING CODE 9111-48-P